DEPARTMENT OF COMMERCE

National Oceanic and Atmospheric Administration

50 CFR Part 660

[Docket No. 0809301285-81289-01]

RIN 0648-AX31

Fisheries Off West Coast States; Coastal Pelagic Species Fisheries; Reporting Requirements and Conservation Measures

AGENCY: National Marine Fisheries Service (NMFS), National Oceanic and Atmospheric Administration (NOAA), Commerce.

ACTION: Final rule; notice of effectiveness of information collection.

SUMMARY: NMFS is announcing that the information collection and reporting requirement was approved by the Office of Management and Budget (OMB).

DATES: The information collection requirements in 50 CFR 660.520 are effective November 10, 2008.

FOR FURTHER INFORMATION CONTACT: Joshua Lindsay, Southwest Region, NMFS, (562) 980-4034.

SUPPLEMENTARY INFORMATION: On May 30, 2007, NMFS published a final rule (72 FR 29891) implementing new reporting requirements and conservation measures under the Coastal Pelagic Species (CPS) Fishery Management Plan (FMP). This final rule contained information collection requirements that at the time of publication had not yet been approved by OMB. This included the requirement to report any interactions that may occur between a CPS vessel and/or fishing gear and sea otters. The final rule stated that NMFS would publish a subsequent Federal Register notice announcing the effectiveness of those requirements. Therefore NMFS announces that OMB approved the collection of information requirements contained in the May 30, 2007, final rule under Control Number 0648-0566 with an expiration date of August 31, 2010.

Authority: 16 U.S.C. 1801 et seq.

Dated: October 7, 2008.
Samuel D. Rauch III,
Deputy Assistant Administrator For Regulatory Programs, National Marine Fisheries Service.

[FR Doc. E8-24201 Filed 10-9-08; 8:45 am]

BILLING CODE 3510-22-S